DEPARTMENT OF THE INTERIOR

National Park Service

[NPS-WASO-NAGPRA-NPS0030514; PPWOCRADN0-PCU00RP14.R50000]

Notice of Inventory Completion: U.S. Department of the Interior, National Park Service, Effigy Mounds National Monument, Harpers Ferry, IA

AGENCY: National Park Service, Interior.

ACTION: Notice.

SUMMARY: The U.S. Department of the Interior, National Park Service, Effigy Mounds National Monument has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Effigy Mounds National Monument. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Effigy Mounds National Monument at the address in this notice by September 2, 2020.

ADDRESSES: Jim Nepstad, Superintendent, Effigy Mounds National Monument, 151 Hwy 76, Harpers Ferry, IA 52146, telephone (563) 873-3491 Ext. 101, email jim_nepstad@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Effigy Mounds National Monument, Harpers Ferry, IA. The human remains and associated funerary objects were removed from sites in Allamakee and Clayton Counties, IA.

This notice is published as part of the National Park Service's administrative responsibilities under NAGPRA, 25 U.S.C. 3003(d)(3). The determinations in this notice are the sole responsibility of the Superintendent, Effigy Mounds National Monument.

Consultation

A detailed assessment of the human remains was made by Effigy Mounds National Monument professional staff in consultation with representatives of the Crow Creek Sioux Tribe of the Crow Creek Reservation, South Dakota; Flandreau Santee Sioux Tribe of South Dakota; Ho-Chunk Nation of Wisconsin; Iowa Tribe of Kansas and Nebraska; Iowa Tribe of Oklahoma; Lower Sioux Indian Community in the State of Minnesota; Omaha Tribe of Nebraska; Otoe-Missouria Tribe of Indians, Oklahoma; Ponca Tribe of Nebraska; Prairie Island Indian Community in the State of Minnesota; Sac & Fox Nation of Missouri in Kansas and Nebraska; Sac & Fox Nation, Oklahoma; Sac & Fox Tribe of the Mississippi in Iowa; Santee Sioux Nation, Nebraska; Shakopee Mdewakanton Sioux Community of Minnesota; Sisseton-Wahpeton Oyate of the Lake Traverse Reservation, South Dakota; Standing Rock Sioux Tribe of North & South Dakota; Upper Sioux Community, Minnesota; Winnebago Tribe of Nebraska; and the Yankton Sioux Tribe of South Dakota (hereafter referred to as “The Consulted Tribes”).

History and Description of the Remains

The human remains described below, with the exception of the one individual removed from Marquette Rockshelter, were stolen from Effigy Mounds National Monument in 1990 and recovered in 2011 and 2012.

Because the mounds at Effigy Mounds National Monument are burial mounds, all artifacts that come from these mounds are considered funerary objects. All of the funerary objects are considered associated funerary objects because, even though these types of items likely had other uses within the culture, it is reasonable to believe that these specific funerary objects were made exclusively for burial purposes and therefore pursuant to 25 U.S.C. 3001(3)(A) are associated funerary objects regardless of the location of the connected human remains.

At an unknown date, human remains representing, at minimum, one individual were removed from the Marquette Rockshelter, Clayton County, IA, by unknown persons. It is not known how the remains entered the collection at Effigy Mounds National Monument. No known individuals were identified. The 837 associated funerary objects are 450 faunal bones, 231 pottery sherds, three utilized flakes, 45 unmodified stones, two flakes, 92 pieces of shell, one bone tool, 10 pieces of shatter, two modified flakes, and one gorget fragment.

In 1950, human remains representing, at minimum, three individuals were removed from the Nazekaw Terrace Mound Group in Allamakee County, IA, by NPS archeologist Paul Beaubien. No known individuals were identified. The 33 associated funerary objects are two Snyders projectile points, one bear canine tooth, one flake tool, four unmodified stones, two pieces of shatter, two faunal bones, two projectile points, four burnt animal tooth fragments, one pottery sherd, nine non-human bone, two pieces of burned earth, and three pieces of charcoal.

In 1952, human remains representing, at minimum, one individual were removed from the Sny Magill Mound Group in Clayton County, IA, by NPS archeologist Paul Beaubien. No known individuals were identified. The 96 associated funerary objects are one faunal bone, one Madison Triangular projectile point, one broken projectile point, one biface, two biface fragments, 15 flakes, 11 utilized flakes, five modified flakes, one Manker or Koster projectile point, one red ocher sample, 34 pottery sherds, one projectile point base, seven pieces of shatter, three unmodified stones, one Kramer projectile point, two Agate Basin lanceolate blades, five copper beads, one scraper, one expanding stemmed projectile point, one straight stemmed projectile point, and one hammerstone.

In 1952 and 1962, human remains representing, at minimum, five individuals were removed from the Fire Point Mound Group in Allamakee County, IA, by NPS archeologists Wilfred Logan and Garland Gordon. No known individuals were identified. The 152 associated funerary objects are one copper breastplate, one mica sheet, one drill, one scraper, 109 unmodified stones, nine pieces of shatter, six flakes, one nut shell, one test core, five pieces of burned earth, three fire cracked rocks, one flat bone fragment, nine freshwater mussel shell fragments, and four pottery sherds.

In 1954, human remains representing, at minimum, 14 individuals were removed from the Highway 76 Rockshelter in Clayton County, IA. Excavations were initiated by Leland Cooper from Hamline University and finished by NPS archeologist Wilfred Logan. No known individuals were identified. The 1,572 associated funerary objects are 8 fragments of miniature pots, 189 pottery sherds, 1,166 faunal bones, 159 freshwater mussel and land snail shells, 11 unmodified stones, three charcoal samples, one rectangular polished turtle shell, one Waubesa projectile point, two Madison Triangular projectile points, one clay sample, eight bone tools, six flakes, four pieces of shatter, one core, five utilized flakes, two modified flakes, one soil sample, two freshwater pearls, one bone artifact, and one biface tool.

In 1961, 12 cultural items were removed from the Marching Bear Mound Group in Clayton County, IA, by NPS archeologist John Ingmanson during the mound rehabilitation project. The 12 associated funerary objects are two pieces of burnt limestone, three utilized flakes, three flakes, and four pieces of shatter.

In 1962, 427 cultural items were removed from the Nazekaw Terrace Mound Group in Allamakee County, IA, by NPS archeologist Garland Gordon during the mound rehabilitation project. The 427 associated funerary objects are 12 bifaces, 40 utilized flakes, 162 unmodified stones, 74 flakes, six cores, 92 pieces of shatter, 25 pottery sherds, one drill fragment, one Durst projectile point, one possible Little Sioux projectile point, one small corner notched projectile point, eight modified flakes, one stone tool, one utilized spall, and two charcoal samples.

In 1962, two cultural items were removed from the Yellow River Mound Group in Allamakee County, IA, by NPS archeologist Garland Gordon during the mound rehabilitation project. The two associated funerary objects are pottery sherds.

In 1965, human remains representing, at minimum, one individual were removed from the Fire Point Mound Group in Allamakee County, IA, by NPS archeologist Garland Gordon during the mound rehabilitation project. No known individuals were identified. The 13 associated funerary objects are 10 unmodified stones, one flake, one land snail shell, and one soil sample.

In 1965, soil samples were collected from various mound sites in Effigy Mounds National Monument by the University of Wisconsin-Madison during the mound rehabilitation project. In 2016, the processed soil samples were returned to Effigy Mounds National Monument. One soil sample had lost its provenience information, so the mound site from which it was removed is unknown. All other soil samples were repatriated and reburied in 2019 or are described elsewhere in this notice. The one associated funerary object is a soil sample.

Based on archeological context, ethnographic information, and oral traditions the human remains and associated funerary objects described above are identified as belonging to the Woodland tradition.

The Woodland tradition transitions into the Oneota tradition which is identified as being clearly ancestral to the Ho-Chunk Nation of Wisconsin; Iowa Tribe of Kansas and Nebraska; Iowa Tribe of Oklahoma; Omaha Tribe of Nebraska; Otoe-Missouria Tribe of Indians, Oklahoma; Ponca Tribe of Nebraska; and the Winnebago Tribe of Nebraska.

The First Treaty of Prairie Du Chien of August 19, 1825 between the United States and the Sac and Fox, Dakota Sioux, Ioway, Ho-Chunk, Winnebago, Potawatomi, Chippewa, Menominee, and Ottawa demonstrates the variety of Tribes living in the area in the 1800s who have historic affiliation with Effigy Mounds National Monument.

The First Treaty of Prairie du Chien, as well as linguistic, oral tradition, temporal and geographic evidence, reasonably indicates that the following Sioux Indian Tribes possess ancestral ties to the Effigy Mounds National Monument region and the human remains and associated funerary objects described above: Crow Creek Sioux Tribe of the Crow Creek Reservation, South Dakota; Flandreau Santee Sioux Tribe of South Dakota; Lower Sioux Indian Community in the State of Minnesota; Prairie Island Indian Community in the State of Minnesota; Santee Sioux Nation, Nebraska; Shakopee Mdewakanton Sioux Community of Minnesota; Sisseton-Wahpeton Oyate of the Lake Traverse Reservation, South Dakota; Standing Rock Sioux Tribe of North & South Dakota; Upper Sioux Community, Minnesota; and the Yankton Sioux Tribe of South Dakota.

Determinations Made by the U.S. Department of the Interior, National Park Service, Effigy Mounds National Monument

Officials of the U.S. Department of the Interior, National Park Service, Effigy Mounds National Monument have determined that:

• Pursuant to 25 U.S.C. 3001(9), the human remains described in this notice represent the physical remains of 25 individuals of Native American ancestry.

• Pursuant to 25 U.S.C. 3001(3)(A), the 3,145 objects described in this notice are reasonably believed to have been placed with or near individual human remains at the time of death or later as part of the death rite or ceremony and to have been made exclusively for burial purposes or to contain human remains.

• Pursuant to 25 U.S.C. 3001(2), there is a relationship of shared group identity that can be reasonably traced between the Native American human remains and associated funerary objects and the Crow Creek Sioux Tribe of the Crow Creek Reservation, South Dakota; Flandreau Santee Sioux Tribe of South Dakota; Ho-Chunk Nation of Wisconsin; Iowa Tribe of Kansas and Nebraska; Iowa Tribe of Oklahoma; Lower Sioux Indian Community in the State of Minnesota; Omaha Tribe of Nebraska; Otoe-Missouria Tribe of Indians, Oklahoma; Ponca Tribe of Nebraska; Prairie Island Indian Community in the State of Minnesota; Santee Sioux Nation, Nebraska; Shakopee Mdewakanton Sioux Community of Minnesota; Sisseton-Wahpeton Oyate of the Lake Traverse Reservation, South Dakota; Standing Rock Sioux Tribe of North & South Dakota; Upper Sioux Community, Minnesota; Winnebago Tribe of Nebraska; and the Yankton Sioux Tribe of South Dakota (hereafter referred to as “The Tribes”).

Additional Requestors and Disposition

Lineal descendants or representatives of any Indian Tribe or Native Hawaiian organization not identified in this notice that wish to request transfer of control of these human remains and associated funerary objects should submit a written request with information in support of the request to Jim Nepstad, Superintendent, Effigy Mounds National Monument, 151 Hwy 76, Harpers Ferry, IA 52146, telephone (563) 873-3491 Ext. 101, email jim_nepstad@nps.gov, by September 2, 2020. After that date, if no additional requestors have come forward, transfer of control of the human remains and associated funerary objects to The Tribes may proceed.

The U.S. Department of the Interior, National Park Service, Effigy Mounds National Monument is responsible for notifying The Consulted Tribes that this notice has been published.

Dated: June 25, 2020.
Melanie O'Brien,
Manager, National NAGPRA Program.

[FR Doc. 2020-16778 Filed 7-31-20; 8:45 am]

BILLING CODE 4312-52-P